DEPARTMENT OF LABOR

Employment and Training Administration

[TA-W-39,205]

Glass Works WV, L.L.C. Weston, WV; Notice of Revised Determination on Reconsideration

By application of December 14, 2001, the United Steel Workers of America, Local 162 S requested administrative reconsideration regarding the Department's Negative Determination Regarding Eligibility to Apply for Worker Adjustment Assistance, applicable to the workers of the subject firm.

The initial investigation resulted in a negative determination, based on the finding that imports of mouth-blown glass tableware did not contribute importantly to worker separations at the subject plant. The denial notice was signed on November 9, 2001 and published in the Federal Register on November 30, 2001 (66 FR 59817).

The applicant on reconsideration provided additional information including an indication that the company was approved eligible for assistance under the U.S. Department of Commerce, Trade Adjustment Assistance for firms program.

An examination of additional documentation furnished by the U.S. Department of Commerce shows that customers increased their import purchases of glass tableware, while decreasing their purchases from the subject plant during the relevant period. Therefore, criterion (3) of the worker group eligibility requirements of section 222 of the Trade Act of 1974, as amended, is met.

Conclusion

After careful consideration of the new facts obtained on reconsideration, it is concluded that increased imports of mouth-blown glass tableware, contributed importantly to the decline in production and to the total or partial separation of workers at Glass Works WV, LLC, Weston, West Virginia. In accordance with the provisions of the Act, I make the following revised determination:

Workers of Glass Works WV, L.L.C., Weston, West Virginia, who became totally or partially separated from employment on or after September 20, 2000 through two years from the date of this certification, are eligible to apply for adjustment assistance under Section 223 of the Trade Act of 1974.

Signed in Washington, DC this 20th day of February 2002.
Edward A. Tomchick,
Director, Division of Trade Adjustment Assistance.

[FR Doc. 02-5585 Filed 3-7-02; 8:45 am]

BILLING CODE 4510-30-M